SMALL BUSINESS ADMINISTRATION

Data Collection Available for Public Comments

ACTION: 60-day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before October 10, 2025.

ADDRESSES: Send all comments to, Yolanda Billingsley, Office of the National Ombudsman, U.S. Small Business Administration at yolanda.billingsley@sba.gov or 409 3rd Street, Washington, DC 20416.

FOR FURTHER INFORMATION CONTACT: Office of the National Ombudsman, Yolanda Billingsley, yolanda.billingsley@sba.gov, 202-205-6532 or Shauniece Carter, Interim Agency Clearance Office, shauniece.carter@sba.gov, 202-205-6536.

SUPPLEMENTARY INFORMATION: The Small Business Regulatory Enforcement Fairness Act of 1966, 15 U.S.C. 657(b)(2)(B), requires the SBA National Ombudsman to establish a means for SBA to receive comments on regulatory and compliance actions from small entities regarding their disagreements with a Federal Agency action. The Ombudsman uses it to obtain the agency's response, encourages a fresh look by the agency at a high level, and build a smaller business-friendly regulatory environment. The form will be updated to include several key enhancements aimed at improving clarity and user protection. Instructions will be modified to guide small business entities through the completion process and ease of use. A non-retaliation policy will be incorporated to reinforce SBREFA protections for small business entities who choose to submit a comment and emphasize the Office of the National Ombudsman's commitment to a safe and supportive environment. Additionally, the confidentiality clause will be revised to provide clear language and reflect the appropriate statutes governing confidentiality.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0313.

Title: Federal Agency Comment Form.

Description of Respondents: Small business entities.

Form Number: SBA Form 1993.

Total Estimated Annual Responses: 1000.

Total Estimated Annual Hour Burden: 333.

Shauniece Carter,
Interim Agency Clearance Office.

[FR Doc. 2025-15196 Filed 8-8-25; 8:45 am]

BILLING CODE 8026-09-P